DEPARTMENT OF TRANSPORTATION

Federal Aviation Administration

[Policy Statement No. PS-ANM111-2001-99-01]

Improving Flightcrew Awareness During Autopilot Operation

AGENCY: Federal Aviation Administration (FAA), DOT.

ACTION: Notice of cancellation of policy statement.

SUMMARY: The Federal Aviation Administration (FAA) announces the cancellation of Policy Statement Number PS-ANM111-2001-99-01 (ANM-99-01). The policy statement is cancelled because it was superseded by an advisory circular (AC) and is no longer necessary.

DATES: This policy statement is cancelled on March 14, 2016.

FOR FURTHER INFORMATION CONTACT: Marie Hogestad, Federal Aviation Administration, Transport Airplane Directorate, Transport Standards Staff, Airplane and Flight Crew Interface Branch, 1601 Lind Avenue SW., Renton, WA 98057-3356; telephone (425) 227-2674; fax (425) 227-1320; email: marie.hogestad@faa.gov.

SUPPLEMENTARY INFORMATION:

Background

On February 22, 2001, the Manager, Transport Airplane Directorate, Aircraft Certification Service, issued Policy Statement Number ANM-99-01, Improving Flightcrew Awareness During Autopilot Operations. The policy statement advised the public that the FAA would be evaluating various items for improving the flightcrew's awareness during autopilot operations when certifying automatic pilot installations. The FAA intended that the policy statement would serve as interim guidance until the issuance of AC 25.1329-1B.

The FAA issued AC 25.1329-1B, Approval of Flight Guidance Systems, on July 17, 2006, and more recently issued the updated AC 25.1329-1C on October 27, 2014. The AC incorporates the same guidance as the older policy statement. The FAA intended to cancel the policy when AC 25.1329-1B was released but overlooked it.

Cancellation of Policy Statement

As a result of the issuance of AC 25.1329-1B (now 25.1329-1C), Policy Statement Number ANM-99-01 is no longer in effect and is herewith cancelled.

Issued in Renton, Washington, on March 1, 2016.
Michael Kaszycki,
Acting Manager, Transport Airplane Directorate, Aircraft Certification Service.

[FR Doc. 2016-05530 Filed 3-11-16; 8:45 am]

BILLING CODE 4910-13-P